DEPARTMENT OF HEALTH AND HUMAN SERVICES

National Institutes of Health

Office of The Director, National Institutes of Health; Notice of Meeting

Notice is hereby given of a meeting of the Big Data to Knowledge Multi-Council Working Group.

The teleconference meeting will be open to the public as indicated below. Individuals who plan to attend and need special assistance, such as sign language interpretation or other reasonable accommodations, should notify the Contact Person listed below in advance of the meeting.

Name of Working Group: Big Data to Knowledge Multi-Council Working Group.

Date: January 11, 2015.

Open: 11:00 a.m. to 12:00 p.m.

Agenda: Discussion will review current Big Data to Knowledge (BD2K) activities and newly proposed BD2K initiatives.

Place: Teleconference. This meeting is open to the public but is being held by teleconference only. No physical meeting location is provided for any interested individuals to listen to committee discussions. Any individual interested in listening to the meeting discussions must call: 1-866-692-3158 and use Passcode: 2956317, for access to the meeting.

Closed: 12:10 p.m.-3:30 p.m.

Agenda: Discussion will focus on review of proposed Funding Plans for BD2K Funding Opportunity Announcements.

Place: Teleconference.

Contact Person: Tonya Scott, email: tonya.scott@nih.gov, phone: 301-402-9817.

Information is also available on the Office of the Associate Director for Data Science's home page: https://datascience.nih.gov/index where an agenda and any additional information for the meeting will be posted when available.

Dated: December 7, 2015.
Anna Snouffer,
Deputy Director, Office of Federal Advisory Committee Policy.

[FR Doc. 2015-31162 Filed 12-10-15; 8:45 am]

BILLING CODE 4140-01-P